DEPARTMENT OF TRANSPORTATION

Federal Aviation Administration

14 CFR Part 71

[Docket No. FAA-2012-0131; Airspace Docket No. 12-ANM-2]

Amendment of Class E Airspace; Rock Springs, WY

AGENCY: Federal Aviation Administration (FAA), DOT.

ACTION: Final rule.

SUMMARY: This action amends Class E airspace at Rock Springs-Sweetwater County Airport, Rock Springs, WY. Decommissioning of the Rock Springs Tactical Air Navigation System (TACAN) has made this action necessary for the safety and management of Instrument Flight Rules (IFR) operations at the airport. This action also adjusts the geographic coordinates of the airport.

DATES: Effective date, 0901 UTC, July 26, 2012. The Director of the Federal Register approves this incorporation by reference action under 1 CFR Part 51, subject to the annual revision of FAA Order 7400.9 and publication of conforming amendments.

FOR FURTHER INFORMATION CONTACT: Eldon Taylor, Federal Aviation Administration, Operations Support Group, Western Service Center, 1601 Lind Avenue SW., Renton, WA 98057; telephone (425) 203-4537.

SUPPLEMENTARY INFORMATION:

History

On February 28, 2012, the FAA published in the Federal Register a notice of proposed rulemaking to amend controlled airspace at Rock Springs, WY (77 FR 11796). Interested parties were invited to participate in this rulemaking effort by submitting written comments on the proposal to the FAA. No comments were received.

Class E airspace designations are published in paragraph 6002 and 6005, respectively, of FAA Order 7400.9V dated August 9, 2011, and effective September 15, 2011, which is incorporated by reference in 14 CFR 71.1. The Class E airspace designations listed in this document will be published subsequently in that Order.

The Rule

This action amends Title 14 Code of Federal Regulations (14 CFR) Part 71 by amending Class E surface airspace, and Class E airspace extending upward from 700 feet above the surface, at Rock Springs-Sweetwater County Airport. Airspace reconfiguration is necessary due to the decommissioning of the Rock Springs TACAN. Also, the geographic coordinates of the airport are updated to coincide with the FAA's aeronautical database. This action is necessary for the safety and management of IFR operations at the airport.

The FAA has determined this regulation only involves an established body of technical regulations for which frequent and routine amendments are necessary to keep them operationally Current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified this rule, when promulgated, will not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends controlled airspace at Rock Springs-Sweetwater County Airport, Rock Springs, WY.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D AND E AIRSPACE AREAS; AIR TRAFFIC SERVICE ROUTES; AND REPORTING POINTS

1. The authority citation for 14 CFR Part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9V, Airspace Designations and Reporting Points, dated August 9, 2011, and effective September 15, 2011 is amended as follows:

Paragraph 6002 Class E airspace designated as surface areas.

* * * * *

ANM WY E2 Rock Springs, WY [Modified]

Rock Springs-Sweetwater County Airport, WY

(Lat. 41°35′39″ N., long. 109°03′55″ W.)

Within 4.8 miles each side of the Rock Springs-Sweetwater County Airport 095° and 275° bearings extending from the airport to 13.5 miles west and 13.2 miles east.

Paragraph 6005 Class E airspace areas extending upward from 700 feet or more above the surface of the earth.

* * * * *

ANM WY E5 Rock Springs, WY [Modified]

Rock Springs-Sweetwater County Airport, WY

(Lat. 41°35′39″ N., long. 109°03′55″ W.)

Rock Springs VOR/DME

(Lat. 41°35′25″ N., long. 109°00′55″ W.)

That airspace extending upward from 700 feet above the surface within a 10.1-mile radius of the Rock Springs-Sweetwater County Airport, and within 8.5 miles north and 6.3 miles south of the Rock Springs-Sweetwater County Airport 269° and 089° bearings extending from the 10.1-mile radius to 23.4 miles west and 20.4 miles east of the airport, and within 2.2 miles north and 4.4 miles south of the Rock Springs-Sweetwater County Airport 109° bearing extending to 18.6 miles east of the airport; that airspace extending upward from 1,200 feet above the surface within a 20.1-mile radius of the Rock Springs VOR/DME, including that airspace bounded on the north by V-4 and V-6, on the southeast by V-208, and on the southwest by V-328.

Issued in Seattle, Washington, on May 11, 2012.
Robert Henry,
Acting Manager, Operations Support Group, Western Service Center.

[FR Doc. 2012-12324 Filed 5-21-12; 8:45 am]

BILLING CODE 4910-13-P